DEPARTMENT OF TRANSPORTATION

Federal Aviation Administration

14 CFR Part 39

[Docket No. FAA-2010-0797; Directorate Identifier 2010-NM-141-AD]

RIN 2120-AA64

Airworthiness Directives; B/E Aerospace Protective Breathing Equipment Part Number 119003-11 Installed on Various Transport Airplanes

AGENCY: Federal Aviation Administration (FAA), DOT.

ACTION: Notice of proposed rulemaking (NPRM).

SUMMARY: We propose to adopt a new airworthiness directive (AD) for various transport airplanes equipped with certain B/E Aerospace protective breathing equipment (PBE) units. This proposed AD would require removing affected PBE units. This proposed AD results from reports of potentially defective potassium superoxide canisters used in PBE units, which could result in an exothermic reaction and ignition. We are proposing this AD to prevent PBE units from igniting, which could result in a fire and possible injury to the flightcrew or other persons.

DATES: We must receive comments on this proposed AD by October 4, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact B/E Aerospace, Inc., Commercial Aircraft Products Group, RGA Department, 10800 Pflumm Road, Lenexa, KS 66215, phone: (913) 338-7378, fax: (913) 469-8419. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: David Fairback, Aerospace Engineer, Systems and Propulsion Branch, ACE-116W, FAA, Wichita Aircraft Certification Office (ACO), 1801 Airport Road, Room 100, Mid-Continent Airport, Wichita, Kansas 67209; telephone (316) 946-4154; fax (316) 946-4107.

SUPPLEMENTARY INFORMATION:

Comments Invited

We invite you to send any written relevant data, views, or arguments about this proposed AD. Send your comments to an address listed under the ADDRESSES section. Include “Docket No. FAA-2010-0797; Directorate Identifier 2010-NM-141-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have been notified that potassium superoxide canisters used in 119003-11 protective breathing equipment ignited on a vendor's test stand during quality assurance testing. Subsequent investigation revealed that potassium superoxide contained a high percentage of small particles that ignited. B/E Aerospace manufactured units with this chemical lot between February 15, 2010 and March 6, 2010. B/E Aerospace shipped 600 canisters with this lot of chemicals to part distributers, airplane manufacturers (including Airbus, ATR, Boeing, Bombardier, Embraer, Fokker, and Hawker Beechcraft), and airlines (including Emirates, Korean Airlines, and Shenzhen Airlines). This condition, if not corrected, could result in potentially defective canisters being used in on-board PBE units.

Relevant Service Information

We have reviewed B/E Aerospace Service Bulletin 119003-35-5, dated April 19, 2010. This service bulletin describes procedures for doing an inspection to determine the serial number of the protective breathing equipment having part number 119003-11, and returning affected parts to B/E Aerospace.

FAA's Determination and Requirements of This Proposed AD

We are proposing this AD because we evaluated all relevant information and determined the unsafe condition described previously is likely to exist or develop in other products of the same type design. This proposed AD would require accomplishing the actions specified in the service information described previously, except as discussed under “Differences Between the Proposed AD and Service Information.”

Differences Between the Proposed AD and Service Information

B/E Aerospace Service Bulletin 119003-35-5, dated April 19, 2010, specifies a compliance time of within 30 days for PBE units in stock or stored as spares, and within the next maintenance check for in-service PBE units. This proposed AD would require compliance within 120 days after the effective date of this AD. B/E Aerospace Service Bulletin 119003-35-5, dated April 19, 2010, specifies to return any faulty PBE units to B/E Aerospace; this proposed AD would not include that requirement.

Costs of Compliance

We estimate that this proposed AD would affect up to 600 aircraft of U.S. registry. We also estimate that it would take about 1 work-hour per product to comply with this proposed AD. The average labor rate is $85 per work-hour. Required parts would cost about $0 per product. Based on these figures, we estimate the cost of this proposed AD to the U.S. operators to be up to $51,000, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

B/E Aerospace: Docket No. FAA-2010-0797; Directorate Identifier 2010-NM-141-AD.

Comments Due Date

(a) We must receive comments by October 4, 2010.

Affected ADs

(b) None.

Applicability

(c) This AD applies to B/E Aerospace protective breathing equipment (PBE) units having part number (P/N) 119003-11. These PBE units may be installed on (or carried or stowed on board), but not limited to, various transport category airplanes, certificated in any category, identified in but not limited to the airplanes of the manufacturers specified in Table 1 of this AD.

Table 1—Affected Manufacturers
Manufacturers
Airbus
ATR
Boeing
Bombardier
Embraer
Fokker
Hawker Beechcraft

Subject

(d) Air Transport Association (ATA) of America Code 35: Oxygen.

Unsafe Condition

(e) This AD results from reports of potentially defective potassium superoxide canisters used in PBE units, which could result in an exothermic reaction and ignition. The Federal Aviation Administration is issuing this AD to prevent PBE units from igniting, which could result in a fire and possible injury to the flightcrew or other persons.

Compliance

(f) You are responsible for having the actions required by this AD performed within the compliance times specified, unless the actions have already been done.

Inspection

(g) Within 120 days after the effective date of this AD, inspect to determine the serial number of the of the PBE units installed in the aircraft, in accordance with the Accomplishment Instructions of B/E Aerospace Service Bulletin 119003-35-5, dated April 19, 2010. A review of airplane records is acceptable in lieu of this inspection if the serial numbers of the PBE can be conclusively determined from that review.

(1) For any PBE that has a serial number from 003-50730M to 003-51329M inclusive: Before further flight, replace the PBE with a serviceable PBE, except as provided by paragraph (g)(2) of this AD.

(2) For any PBE that has a label showing that it has been restored in accordance with B/E Aerospace Service Bulletin 119003-35-6: The replacement has been done, and no further action is required.

Parts Installation

(h) As of the effective date of this AD, no person may install a PBE unit having P/N 119003-11 with a serial number ranging from 003-50730M to 003-51329M inclusive, unless it has a label showing it has been restored in accordance with B/E Aerospace Service Bulletin 119003-35-6, dated May 21, 2010.

Alternative Methods of Compliance (AMOCs)

(i)(1) The Manager, Wichita Aircraft Certification Office (ACO), FAA, has the authority to approve AMOCs for this AD, if requested using the procedures found in 14 CFR 39.19. Send information to ATTN: David Fairback, Aerospace Engineer, Systems and Propulsion Branch, ACE-116W, FAA, Wichita Aircraft Certification Office (ACO), 1801 Airport Road, Room 100, Mid-Continent Airport, Wichita, Kansas 67209; telephone (316) 946-4154; fax (316) 946-4107.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on August 10, 2010.
Jeffrey E. Duven,
Acting Manager, Transport Airplane Directorate, Aircraft Certification Service.

[FR Doc. 2010-20486 Filed 8-17-10; 8:45 am]

BILLING CODE 4910-13-P